DEPARTMENT OF ENERGY

Federal Energy Regulatory Commission

Combined Notice of Filings #2

Take notice that the Commission received the following electric rate filings:

Docket Numbers: ER10-1437-003.

Applicants: Tampa Electric Company.

Description: Notice of Non-Material Change in Status of Tampa Electric Company.

Filed Date: 9/30/14.

Accession Number: 20140930-5155.

Comments Due: 5 p.m. ET 10/21/14.

Docket Numbers: ER14-1653-002.

Applicants: Southwest Power Pool, Inc.

Description: Compliance filing per 35: Attachment X Article 5A Compliance Filing—Docket No. ER14-1653 to be effective 3/1/2014.

Filed Date: 9/30/14.

Accession Number: 20140930-5145.

Comments Due: 5 p.m. ET 10/21/14.

Docket Numbers: ER10-1901-009.

Applicants: Upper Peninsula Power Company.

Description: Notice of Non-Material Change in Status of Upper Peninsula Power Company.

Filed Date: 9/30/14.

Accession Number: 20140930-5184.

Comments Due: 5 p.m. ET 10/21/14.

Docket Numbers: ER10-2860-005.

Applicants: TC Ravenswood, LLC.

Description: Notice of Non-Material Change in Status of TC Ravenswood, LLC.

Filed Date: 9/30/14.

Accession Number: 20140930-5151.

Comments Due: 5 p.m. ET 10/21/14.

Docket Numbers: ER14-2966-000.

Applicants: Public Service Company of Colorado.

Description: § 205(d) rate filing per 35.13(a)(2)(iii): 2014-09-30_NSP-WKFLD-UnEXE T-L Filing-571 to be effective 9/1/2014.

Filed Date: 9/30/14.

Accession Number: 20140930-5156.

Comments Due: 5 p.m. ET 10/21/14.

Docket Numbers: ER14-2967-000.

Applicants: TransCanada Maine Wind Development Inc.

Description: § 205(d) rate filing per 35.13(a)(2)(iii): TransCanada Maine Wind Development—Revised Tariff Filing to be effective 10/1/2014.

Filed Date: 9/30/14.

Accession Number: 20140930-5168.

Comments Due: 5 p.m. ET 10/21/14.

Docket Numbers: ER14-2968-000.

Applicants: Louisville Gas and Electric Company.

Description: § 205(d) rate filing per 35.13(a)(2)(iii): EKPC NITSA AMENDMENT to be effective 12/1/2014.

Filed Date: 9/30/14.

Accession Number: 20140930-5181.

Comments Due: 5 p.m. ET 10/21/14.

Docket Numbers: ER14-2969-000.

Applicants: PJM Interconnection, L.L.C.

Description: § 205(d) rate filing per 35.13(a)(2)(iii): Revisions to OATT Attachment Q re Miscellaneous Credit Revisions to be effective 12/1/2014.

Filed Date: 9/30/14.

Accession Number: 20140930-5186.

Comments Due: 5 p.m. ET 10/21/14.

Docket Numbers: ER14-2970-000.

Applicants: TransCanada Hydro Northeast Inc.

Description: § 205(d) rate filing per 35.13(a)(2)(iii): TransCanada Hydro Northeast, Inc. Revised Electric Tariff Filing to be effective 10/1/2014.

Filed Date: 9/30/14.

Accession Number: 20140930-5193.

Comments Due: 5 p.m. ET 10/21/14.

Docket Numbers: ER14-2971-000.

Applicants: NV Energy, Inc.

Description: § 205(d) rate filing per 35.13(a)(2)(iii): OATT Revisions to Attachment N—LGIA to be effective 8/4/2014.

Filed Date: 9/30/14.

Accession Number: 20140930-5197.

Comments Due: 5 p.m. ET 10/21/14.

Docket Numbers: ER14-2972-000.

Applicants: PacifiCorp.

Description: § 205(d) rate filing per 35.13(a)(2)(iii): Tri-State Transmission Interconnection Agreement to be effective 10/1/2014.

Filed Date: 9/30/14.

Accession Number: 20140930-5216.

Comments Due: 5 p.m. ET 10/21/14.

Docket Numbers: ER14-2973-000.

Applicants: Cheyenne Light, Fuel and Power Company.

Description: § 205(d) rate filing per 35.13(a)(2)(iii): OATT—Real Power Losses Factor to be effective 10/1/2014.

Filed Date: 9/30/14.

Accession Number: 20140930-5283.

Comments Due: 5 p.m. ET 10/21/14.

Docket Numbers: ER14-2974-000.

Applicants: PJM Interconnection, L.L.C.

Description: § 205(d) rate filing per 35.13(a)(2)(iii): First Revised Service Agreement No. 2195; Queue No. X1-074 to be effective 8/28/2014.

Filed Date: 9/30/14.

Accession Number: 20140930-5302.

Comments Due: 5 p.m. ET 10/21/14.

Docket Numbers: ER14-2975-000.

Applicants: Florida Power & Light Company.

Description: § 205(d) rate filing per 35.13(a)(2)(iii): FPL and Lee County Electric Cooperative, Inc. Revisions to NITSA No. 266 to be effective 9/1/2014.

Filed Date: 9/30/14.

Accession Number: 20140930-5306.

Comments Due: 5 p.m. ET 10/21/14.

Docket Numbers: ER14-2976-000.

Applicants: PJM Interconnection, L.L.C.

Description: § 205(d) rate filing per 35.13(a)(2)(iii): Revisions to the OATT and OA re: Demand Bid Volume Limits and Demand Bid Screen to be effective 1/13/2015.

Filed Date: 9/30/14.

Accession Number: 20140930-5307.

Comments Due: 5 p.m. ET 10/21/14.

Docket Numbers: ER14-2977-000.

Applicants: TC Ravenswood, LLC.

Description: § 205(d) rate filing per 35.13(a)(2)(iii): Revised MBR Sale of Capacity Tariff to be effective 10/1/2014.

Filed Date: 9/30/14.

Accession Number: 20140930-5314.

Comments Due: 5 p.m. ET 10/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2014.
Nathaniel J. Davis, Sr.,
Deputy Secretary.

[FR Doc. 2014-23919 Filed 10-6-14; 8:45 am]

BILLING CODE 6717-01-P